DEPARTMENT OF THE INTERIOR

Bureau of Land Management

[CO-921-07-1320-EL; COC-72980]

Notice of Federal Competitive Coal Lease Sale Offer, Colorado

AGENCY: Bureau of Land Management, Interior.

ACTION: Notice of Competitive Coal Lease Sale, Lease Application COC-72980.

SUMMARY: Notice is hereby given that the United States Department of the Interior, Bureau of Land Management (BLM), Colorado State Office, will offer certain coal resources describe below as Federal coal lease application (LBA) COC-72980 in Routt County, Colorado, for competitive sale by sealed bid, in accordance with the provisions for competitive lease sales in 43 CFR 3422.2(a), and the Mineral Leasing Act of 1920, as amended (30 U.S.C. 181 et seq.).

DATES: The lease sale will be held at 10 a.m., Wednesday, January 14, 2008. Sealed bid must be sent by certified mail, return receipt requested, or be hand delivered to the address indicated below, and must be received on or before 10 a.m., Wednesday, January 14, 2008. The BLM cashier will issue a receipt for each hand delivered sealed bid. Any bid received after the time specified will not be considered and will be returned. The outside of the sealed envelope containing the bid must clearly state that the envelope contains a bid for Coal Lease Sale COC-72980, and is not to be opened before the date and hour of the sale.

ADDRESSES: The lease sale will be held in the BLM Colorado State Office, Conference Room, Fourth Floor, 2850 Youngfield Street, Lakewood, Colorado. Sealed bids must be submitted, hand delivered or mailed to BLM Colorado State Office, 2850 Youngfield Street, Lakewood, Colorado 80215.

FOR FURTHER INFORMATION CONTACT: Kurt Barton at BLM Colorado State Office, 2850 Youngfield Street, Lakewood, Colorado 80215, or by telephone 303-239-3714.

SUPPLEMENTARY INFORMATION: This coal lease sale is being held in response to a LBA filed by Twentymile Coal Company, April 8, 2008. The coal resource to be offered consists of recoverable coal reserves in the TCC Wadge seam mined by underground mining methods in the following lands:

T. 5 N., R. 87 W., 6th P.M.

Sec. 22, E½SW¼, SE¼;

Sec. 27, W½NE¼, E½ NW¼, N½NE¼SW¼, W½SE¼;

Containing approximately 500 acres in Routt County, Colorado.

Total recoverable reserves are estimated to be 1.4 million tons. The underground minable coal is ranked as sub bituminous B coal. The estimated coal quality on an as-received basis for the seams are as follows:

TCC Wadge Seam
BTU/lb | 12,561
Volatile Matter | 33.52%
Moisture | 8.55%
Fixed Carbon | 44.92%
Sulfur Content | 0.49%
Ash Content | 9.94%

The tract will be leased to the qualified bidder of the highest cash amount, provided that the high bid meets the FMV for the tract. The minimum bid for the tract is $100 per acre or fraction thereof. No bid that is less than $100 per acre, or fraction thereof, will be considered. The minimum bid is not intended to represent FMV. The FMV of the tract will be determined by the Authorized Officer after the sale. In the event identical high sealed bids are received, the tying high bidders will be requested to submit follow-up bids until a high bid is received. All tie-breaking sealed bids must be submitted within 15 minutes following the Sale Official's announcement at the sale that identical high bids have been received. The lease issued as a result of this offering will provide for payment of an annual rental of $3.00 per acre, or fraction thereof, and of a royalty payment to the United States of 12.5 percent of the value of coal produced by strip or auger mining methods and 8 percent of the value of the coal produced by underground mining methods. The value of the coal will be determined in accordance with 30 CFR 206.250.

The required Detailed Statement for the offered tract, including bidding instructions and sales procedures under 43 CFR 3422.3-2, and the terms and conditions of the proposed coal lease, is available from BLM Colorado State Office at the addresses above. Case file documents and written comments for COC-72980 submitted by the public on FMV or royalty rates, except those portions identified as proprietary by the commentator and meeting exemptions stated in the Freedom of Information Act, are available for public inspection during normal business hours in the BLM Public Room.

Before including your address, phone number, e-mail address, or other personal identifying information in your comment, you should be aware that your entire comment—including your personal identifying information—may be made publicly available at any time. While you can ask us in your comment to withhold your personal identifying information from public review, we cannot guarantee that we will be able to do so.

Kurt Barton,
Solid Minerals Staff, Division of Energy, Lands and Minerals.

[FR Doc. E8-26014 Filed 10-30-08; 8:45 am]

BILLING CODE 4310-JB-P